DEPARTMENT OF ENERGY

Federal Energy Regulatory Commission

Sunshine Meeting Notice

February 2, 2005.

The following notice of meeting is published pursuant to section 3(a) of the government in the Sunshine Act (Pub. L. 94-409), 5 U.S.C 552b:

AGENCY: Federal Energy Regulatory Commission.

DATE AND TIME: February 9, 2005, 10 a.m.

PLACE: Room 2C, 888 First Street, NE., Washington DC 20426.

STATUS: Open.

MATTERS TO BE CONSIDERED: Agenda, *Note—Items listed on the agenda may be deleted without further notice.

FOR MORE INFORMATION CONTACT: Magalie R. Salas, Secretary, telephone (202) 502-8400. For a recorded listing items stricken from or added to the meeting, call (202) 502-8627.

This is a list of matters to be considered by the Commission. It does not include a listing of all pages relevant to the items on the agenda; however, all public documents may be examined in the Public Reference Room.

880th—Meeting, February 9, 2005, Regular Meeting, 10 a.m.
Item No. | Docket No. | Company
ADMINISTRATIVE AGENDA
A-1 | AD02-1-000 | Agency Administrative Matters.
A-2 | AD02-7-000 | Customer Matters, Reliability, Security and Market Operations.
MARKETS, TARIFFS, AND RATES—ELECTRIC
E-1 | ER02-1656-021 | California Independent System Operator Corporation.
E-2 | RT04-2-005 | ISO New England, Inc., Bangor Hydro Electric Company Central Maine Power Company, NSTAR Electric & Gas Corporation, New England Power Company, Northeast Utilities Service Company, The United Illuminating Company and Vermont Electric Power Company.
| ER04-116-005 | ISO New England, Inc., Bangor Hydro Electric Company Central Maine Power Company, NSTAR Electric & Gas Corporation, New England Power Company, Northeast Utilities Service Company, The United Illuminating Company and Vermont Electric Power Company.
| ER04-157-008 | Bangor HydroElectric Company, Central Maine Power Company, NSTAR Electric & Gas Corporation, on behalf of its affiliates: Boston Edison Company, Commonwealth Electric Company, Cambridge Electric Light Company , Canal Electric Company.
|  | New England Power Company, Northeast Utilities Service Company on behalf of its operating company affiliates: The Connecticut Light and Power Company, Western Massachusetts Electric Company, Public Service Company of New Hampshire, Holyoke Power and Electric Company, Holyoke Water Power Company.
|  | The United Illuminating Company, Vermont Electric Power Company, Central Vermont Public Service Company and Green Mountain Power Corporation.
| EL01-39-005 | The Consumers of New England v. New England Power Pool.
| RT04-2-006 | ISO New England, Inc., Bangor Hydro Electric Company Central Maine Power Company, NSTAR Electric & Gas Corporation, New England Power Company, Northeast Utilities Service Company, The United Illuminating Company and Vermont Electric Power Company.
| RT04-2-007 | ISO New England, Inc., Bangor Hydro Electric Company Central Maine Power Company, NSTAR Electric & Gas Corporation, New England Power Company, Northeast Utilities Service Company, The United Illuminating Company and Vermont Electric Power Company.
| RT04-2-008 | ISO New England, Inc., Bangor Hydro Electric Company Central Maine Power Company, NSTAR Electric & Gas Corporation, New England Power Company, Northeast Utilities Service Company, The United Illuminating Company and Vermont Electric Power Company.
| RT04-2-009 | ISO New England, Inc., Bangor Hydro Electric Company Central Maine Power Company, NSTAR Electric & Gas Corporation, New England Power Company, Northeast Utilities Service Company, The United Illuminating Company and Vermont Electric Power Company.
| ER04-116-006 | ISO New England, Inc., Bangor Hydro Electric Company Central Maine Power Company, NSTAR Electric & Gas Corporation, New England Power Company, Northeast Utilities Service Company, The United Illuminating Company and Vermont Electric Power Company.
| ER04-116-007 | ISO New England, Inc., Bangor Hydro Electric Company Central Maine Power Company, NSTAR Electric & Gas Corporation, New England Power Company, Northeast Utilities Service Company, The United Illuminating Company and Vermont Electric Power Company.
| ER04-116-008 | ISO New England, Inc., Bangor Hydro Electric Company Central Maine Power Company, NSTAR Electric & Gas Corporation, New England Power Company, Northeast Utilities Service Company, The United Illuminating Company and Vermont Electric Power Company.
| ER04-116-009 | ISO New England, Inc., Bangor Hydro Electric Company Central Maine Power Company, NSTAR Electric & Gas Corporation, New England Power Company, Northeast Utilities Service Company, The United Illuminating Company and Vermont Electric Power Company.
| ER04-157-009 | Bangor HydroElectric Company, Central Maine Power Company, NSTAR Electric & Gas Corporation, on behalf of its affiliates: Boston Edison Company, Commonwealth Electric Company, Cambridge Electric Light Company, Canal Electric Company.
|  | New England Power Company, Northeast Utilities Service Company on behalf of its operating company affiliates: The Connecticut Light and Power Company, Western Massachusetts Electric Company, Public Service Company of New Hampshire, Holyoke Power and Electric Company, Holyoke Water Power Company.
|  | The United Illuminating Company, Vermont Electric Power Company, Central Vermont Public Service Company and Green Mountain Power Corporation.
| ER04-157-010 | Bangor HydroElectric Company, Central Maine Power Company, NSTAR Electric & Gas Corporation, on behalf of its affiliates: Boston Edison Company, Commonwealth Electric Company, Cambridge Electric Light Company, Canal Electric Company.
|  | New England Power Company, Northeast Utilities Service Company on behalf of its operating company affiliates: The Connecticut Light and Power Company, Western Massachusetts Electric Company, Public Service Company of New Hampshire, Holyoke Power and Electric Company, Holyoke Water Power Company.
|  | The United Illuminating Company, Vermont Electric Power Company, Central Vermont Public Service Company and Green Mountain Power Corporation.
| ER04-157-011 | Bangor HydroElectric Company, Central Maine Power Company, NSTAR Electric & Gas Corporation, on behalf of its affiliates: Boston Edison Company, Commonwealth Electric Company, Cambridge Electric Light Company, Canal Electric Company.
|  | New England Power Company, Northeast Utilities Service Company on behalf of its operating company affiliates: The Connecticut Light and Power Company, Western Massachusetts Electric Company, Public Service Company of New Hampshire, Holyoke Power and Electric Company, Holyoke Water Power Company.
|  | The United Illuminating Company, Vermont Electric Power Company, Central Vermont Public Service Company and Green Mountain Power Corporation.
| EL01-39-006 | The Consumers of New England v. New England Power Pool.
| EL01-39-007 | The Consumers of New England v. New England Power Pool.
| EL01-39-008 | The Consumers of New England v. New England Power Pool.
| EL01-39-009 | The Consumers of New England v. New England Power Pool.
| ER05-361-000 | New England Power Pool.
| ER05-374-000 | ISO New England, Inc., Bangor Hydro Electric Company, Central Maine Power Company, NSTAR Electric & Gas Corporation, New England Power Company, Northeast Utilities Service Company, The United Illuminating Company and Vermont Electric Power Company.
| ER05-374-001 | ISO New England, Inc., Bangor Hydro Electric Company Central Maine Power Company, NSTAR Electric & Gas Corporation, New England Power Company, Northeast Utilities Service Company, The United Illuminating Company and Vermont Electric Power Company.
| ER04-943-001 | New York Independent System Operator Inc. and the New York Transmission Owners.
| ER05-3-001 | New England Power Pool.
E-3 | OMITTED.
E-4 | EL05-48-000 | Neptune Regional Transmission System, LLC v. PJM Interconnection, L.L.C.
E-5 | ER02-1913-005 | Nevada Power Company.
E-6 | RM04-14-000 | Reporting Requirement for Changes in Status for Public Utilities With MarketBased Rate Authority.
E-7 | ER04-1238-000 | Public Service Company of New Hampshire.
| ER04-1238-001 | Public Service Company of New Hampshire.
E-8 | ER05-111-000 | TransCanada Hydro Northeast Inc.
| ER05-111-001 | TransCanada Hydro Northeast Inc.
E-9 | ER05-326-000 | Southwest Power Pool, Inc.
E-10 | ER05-331-000 | Promet Energy Partners LLC.
E-11 | OMITTED.
E-12 | ER05-356-000 | Entergy Services, Inc.
E-13 | ER05-302-000 | CalPeak Power, LLC.
| ER05-302-001 | CalPeak Power, LLC.
| ER05-303-000 | CalPeak Power, LLC.
| ER05-303-001 | CalPeak Power, LLC.
| ER05-304-000 | CalPeak Power, LLC.
| ER05-304-001 | CalPeak Power, LLC.
E-14 | ER05-332-000 | Klondike Wind Power II LLC.
E-15 | ER05-343-000 | Mirant Delta, LLC and Mirant Potrero, LLC.
| ER05-343-001 | Mirant Delta, LLC and Mirant Potrero, LLC.
E-16 | ER05-365-000 | Elk River Windfarm LLC.
E-17 | OMITTED.
E-18 | OMITTED.
E-19 | ER98-997-005 | California Independent System Operator Corporation.
| ER98-1309-004 | California Independent System Operator Corporation.
| ER02-2297-004 | California Independent System Operator Corporation.
| ER02-2298-004 | California Independent System Operator Corporation.
E-20 | ER99-4392-002 | Southwest Power Pool, Inc.
E-21 | ER05-6-001 | Midwest Independent Transmission System Operator, Inc.
| EL02-111-024 | Midwest Independent Transmission System Operator, Inc., PJM Interconnection, L.L.C., Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Energy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc. and its subsidiary Superior Water, Light & Power Company, MontanaDakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG+E Electric Services, Southwestern Public Service Company, Empire District Electric Company, Western Resources and Kansas Gas & Electric Co.
| EL03-212-021 | Ameren Services Company on behalf of: Union Electric Company, Central Illinois Public Service Company.
|  | American Electric Power Service Corporation on behalf of: Appalachian Power Company, Columbus Southern Power Company, Indiana Michigan Power Company, Kentucky Power Company , Kingsport Power Company, Ohio Power Company, Wheeling Power Company.
|  | Dayton Power and Light Company.
|  | Exelon Corporation on behalf of: Commonwealth Edison Company, Commonwealth Edison Company of Indiana, Inc.
|  | FirstEnergy Corporation on behalf of: American Transmission Systems, Inc.
|  | Illinois Power Company and Northern Indiana Public Service Company.
| EL04-135-007 | Midwest Independent Transmission System Operator, Inc., PJM Interconnection, L.L.C.
|  | Alliant Energy Corporate Services, Inc. on behalf of: Interstate Power and Light Company.
|  | Ameren Services Company on behalf of: Union Electric Company; Central Illinois Public Service Company; Central Illinois Light Company.
|  | Aquila, Inc. (formerly UtiliCorp United, Inc.), Cinergy Services, Inc., Cincinnati Gas & Electric Company, PSI Energy, Inc., Union Light Heat & Power Company, City Water, Light & Power (Springfield, IL), Dairyland Power Cooperative.
|  | FirstEnergy Corporation on behalf of: American Transmission Systems, Inc.
|  | Great River Energy, GridAmerica LLC, Illinois Power Company, Indiana Municipal Power Agency, Indianapolis Power & Light Company, International Transmission Company, Hoosier Energy Rural Electric Cooperative, Lincoln Electric (Neb.) System.
|  | LG&E Energy Corporation on behalf of: Kentucky Utilities Company; and Louisville Gas & Electric Company.
|  | Michigan Electric Transmission Company, LLC, Michigan Public Power Agency, Minnesota Power, Inc., MontanaDakota Utilities Company, Northern Indiana Public Service Company, Northwestern Wisconsin Electric Company, Otter Tail Power Company, Southern Illinois Power Cooperative, Southern Indiana Gas & Electric Cooperative, Southern Minnesota Municipal Power Agency, Superior Water, Light & Power Company, Sunflower Electric Power Corporation, Wabash Valley Power Association, Inc., Wolverine Power Supply Cooperative.
|  | Xcel Energy Services, Inc., on behalf of: Northern States Power Company (Minnesota); and Northern States Power Company (Wisconsin); Allegheny Electric Cooperative, Inc., Allegheny Power, American Power Electric Service Corporation on behalf of: Appalachian Power Company; Columbus Southern Power Company; Indiana Michigan Power Company; Kentucky Power Company; Kingsport Power Company; Ohio Power Company; Wheeling Power Company.
|  | Atlantic City Electric Company, Baltimore Gas & Electric Company, Dayton Power and Light Company, Delmarva Power & Light Company, Dominion Virginia Power Company.
|  | Exelon Corporation on behalf of: Commonwealth Edison Company, Commonwealth Edison Company of Indiana, Inc.
|  | Jersey Central Power & Light Company, Metropolitan Edison Company, Old Dominion Electric Cooperative, PECO Energy Company, Pennsylvania Electric Company, Public Service Electric & Gas Company, PPL Electric Company Electric Utilities Corporation, Potomac Electric Company, Rockland Electric Company and UGI Utilities, Inc.
| ER05-6-005 | Midwest Independent Transmission System Operator, Inc.
| EL02-111-026 | Midwest Independent Transmission System Operator, Inc., PJM Interconnection, L.L.C. Union Electric Central Illinois Public Service Company, Appalachian Power Company, Columbus Southern Power Company, Indiana Michigan Power Company,Kentucky Power Company, Kingsport Power Company, Ohio Power Comp0any, Wheeling Power Company, Michigan Electric Transmission Company, Dayton Power and Light Company, Commonwealth Edison Company, Commonwealth Edison Company of Indiana, Inc., American Transmission Systems, Inc., Illinois Power Company, Northern Indiana Public Service Company, Virginia Electric and Power Company,Interstate Power Company, Aquila, Inc. (Formerly UtiliCorp United, Inc.), PSI Energy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc. and its subsidiary Superior Water Light & Power Company, MontanaDakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Company, Colorado, Public Service Electric & Gas Company Public Service Company of Oklahoma, Rockland Electric Company, South Carolina Electric & Gas Company, Southwestern Electric Power Company, Cincinnati Gas & Electric Company, Missouri Public Service, WestPlains Energy, Cleco Corporation, Kansas Power & Light Company, OG+E Electric Services, Southwestern Public Service Company, Empire District Electric Company, Western Resources and Kansas Gas & Electric Co.
| EL04-135-009 | Midwest Independent Transmission System Operator, Inc., PJM Interconnection, L.L.C.
|  | Alliant Energy Corporate Services, Inc. on behalf of: Interstate Power and Light Company.
|  | Ameren Services Company on behalf of: Union Electric Company and Central Illinois Public Service Company, Central Illinois Light Company.
|  | Aquila, Inc. (formerly UtiliCorp United, Inc.) Cinergy Services, Inc., Cincinnati Gas & Electric Company, PSI Energy, Inc., Union Light Heat & Power Company, City Water, Light & Power (Springfield, IL), Dairyland Power Cooperative.
|  | FirstEnergy Corporation on behalf of: American Transmission Systems, Inc.
|  | Great River Energy, GridAmerica LLC, Illinois Power Company, Indiana Municipal Power Agency, Indianapolis Power & Light Company, International Transmission Company, Hoosier Energy Rural Electric Cooperative, Lincoln Electric (Neb.) System.
|  | LG&E Energy Corporation on behalf of: Kentucky Utilities Company Louisville Gas & Electric Company.
|  | Michigan Electric Transmission Company, LLC, Michigan Public Power Agency, Minnesota Power, Inc., MontanaDakota Utilities Company, Northern Indiana Public Service Company, Northwestern Wisconsin Electric Company, Otter Tail Power Company, Southern Illinois Power Cooperative, Southern Indiana Gas & Electric Cooperative, Southern Minnesota Municipal Power Agency, Superior Water, Light & Power Company, Sunflower Electric Power Corporation, Wabash Valley Power Association, Inc., Wolverine Power Supply Cooperative.
|  | Xcel Energy Services, Inc. on behalf of: Northern States Power Company (Minnesota), Northern States Power Company (Wisconsin)
|  | Allegheny Electric Cooperative, Inc.
|  | Allegheny Power, American Electric Power Service Corporation on behalf of: Appalachian Power Company, Columbus Southern Power Company, Indiana Michigan Power Company, Kentucky Power Company, Kingsport Power Company, Ohio Power Company, Wheeling Power Company.
|  | Atlantic City Electric Company, Baltimore Gas & Electric Company, Dayton Power and Light Company, Delmarva Power & Light Company, Dominion Virginia Power Company.
|  | Exelon Corporation on behalf of: Commonwealth Edison Company, Commonwealth Edison Company of Indiana, Inc.
|  | Jersey Central Power & Light Company, Metropolitan Edison Company, Old Dominion Electric Cooperative, PECO Energy Company, Pennsylvania Electric Company, Public Service Electric & Gas Company, PPL Electric Utilities Corporation, Potomac Electric Power Company, Rockland Electric Company and UGI Utilities, Inc.
| ER05-6-007 | Midwest Independent Transmission System Operator, Inc.
| EL02-111-028 | Midwest Independent Transmission System Operator, Inc. PJM Interconnection, L.L.C. Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison of Indiana, Inc., American Transmission Systems, Inc., Illinois Power Company, Northern Indiana Public Service Company, Virginia Electric and Power Company, IES Utilities, Inc., Interstate Power Company, Aquila, Inc. (formerly UtiliCorp United, Inc.), PSI Energy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc. and its subsidiary Superior Water, Light & Power Company, MontanaDakota Utilities, Northwestern Wisconsin Electric Company, Otter Trail Power Company, Southern Illinois Power Cooperative, Southern Indiana Gas & Electric Cooperative, Southern Minnesota Municipal Power Agency, Sunflower Electric Power Corporation, Wabash Valley Power Associations, Inc., Volverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metroplitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG+E Electric Services, Southwestern Public Service Company, Empire District Electric Company, Western Resources and Kansas Gas & Electric Co.
| EL03-212-025 | Ameren Services Company on behalf of: Union Electric Company, Central Illinois Public Service Company.
|  | American Electric Power Service Corporation on behalf of: Appalachian Power Company, Columbus Southern Power Company, Indiana Michigan Power Company, Kentucky Power Company, Kingsport Power Company, Ohio Power Company, Wheeling Power Company.
|  | Dayton Power and Light Company.
|  | Exelon Corporation On behalf of: Commonwealth Edison Company Commonwealth Edison Company of Indiana, Inc., FirstEnergy Corporation on behalf of: American Transmission Systems, Inc.
|  | Illinois Power Company and Northern Indiana Public Service Company.
| R05-6-009 | Midwest Independent Transmission System Operator, Inc., PJM Interconnection, L.L.C.
|  | Alliant energy Corporate Services, Inc. on behalf of: Interstate Power and Light Company.
|  | Ameren Services Company on behalf of: Union electric Company and Central Illinois Public Service Company, Central Illinois Light Company.
|  | Aquila, Inc. (formerly UtiliCorp United, Inc.), Cinergy Services, Inc., Cincinnati Gas & Electric Company PSI Energy, Inc. Union Light Heat & Power Company, city Water, Light & Power (Springfield, IL), Dairyland Power Cooperative.
|  | FirstEnergy Corproation on behalf of: American Transmission Systems, Inc.
|  | Great River Energy, GridAmerica LLC, Illinois Power Company, Indiana Municipal Power Agency, Indianapolis Power & Light Company, International Transmission company, Hoosier Energy Rural Electric Cooperative, Lincoln Electric (Neb.) System.
|  | LG&E Energy corporation on behalf of: Kentucky utilities Company, Louisville Gas & Electric Company.
|  | Michigan Electric Transmission Company, LLC, Michigan Public Power Agency, Minnesota Power, Inc., MontanDakota Utilities Company, Northern Indiana Public Service Company, Northwestern Wisconsin Electric Company, Otter Tail Power Power Company, Southern Illinois Power Cooperative, Southern Indiana Gas & Electric cooperative, Southern Minnesota Municipal Power Agency, Superior Water, Light & Power Company, Sunflower Electric Power Corporation, Wabash Valley power Association, Inc., Wolverine Power Supply Cooperative.
|  | Xcel Energy Services, Inc. on behalf of: Northern States Power Company (Minnesota), Northern States Power Company (Wisconsin).
|  | Allegheny Electric Cooperative, Inc.
|  | Allegheny Power, American Electric Power Service Corporation on behalf of: Appalachian Power Company, Columbus Southern Power Company, Indiana Michigan Power Company, Keentucky Power Company, Kingsport Power Company, Ohio Power Company, Wheeling Power Company.
|  | Atlantic City Electric Company, Baltimore Gas & Electric Company, Dayton Power and Light Company, Delmarva Power & Light Company, Dominion virginia Power Company.
|  | Exelon corporation on behalf of: Commonwealth Edison Company, Commonwealth Edison Company of Indiana, Inc.
|  | Jersey Central Power & LIght Company, Metropolitan Edison Company, Old Dominion Electric Cooperative, PECO Energy Company, Pennsylvania Electric Company, Public Service Electric & Gas Company, PPL Electric Utilities Corporatin, Potomac Electric Power Company, Rockland Electric Company and UGI Utilities, Inc.
| EL02-111-031 | Midwest Independent Transmission System Operator, Inc. PJM Interconnection, L.L.C., Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Energy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc. and its subsidiary Superior Water, Light & Power Company, MontanaDakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG+E Electric Services, Southwestern Public Service Company, Empire District Electric Company, Western Resources and Kansas Gas & Electric Co.
| ER05-6-013 | Midwest Independent Transmission System Operator, Inc.
| EL04-135-011 | Midwest Independent Transmission System Operator, Inc. PJM Interconnection, L.L.C.
|  | Alliant Energy Corporate Services, Inc. on behalf of: Interstate Power and Light Company.
|  | Ameren Services Company on behalf of: Union Electric Company and Central Illinois Public Service Company, Central Illinois Light Company.
|  | Aquila, Inc. (formerly UtiliCorp United, Inc.) Cinergy Services, Inc., Cincinnati Gas & Electric Company PSI Energy, Inc. Union Light Heat & Power Company, City Water, Light & Power (Springfield, IL), Dairyland Power Cooperative.
|  | FirstEnergy Corporation on behalf of: American Transmission Systems, Inc.
|  | Great River Energy, GridAmerica LLC, Illinois Power Company, Indiana Municipal Power Agency, Indianapolis Power & Light Company, International Transmission Company, Hoosier Energy Rural Electric Cooperative, Lincoln Electric (Neb.) System.
|  | LG&E Energy Corporation on behalf of: Kentucky Utilities Company, Louisville Gas & Electric Company.
|  | Michigan Electric Transmission Company, LLC, Michigan Public Power Agency, Minnesota Power, Inc., MontanaDakota Utilities Company, Northern Indiana Public Service Company, Northwestern Wisconsin Electric Company, Otter Tail Power Company, Southern Illinois Power Cooperative, Southern Indian Gas & Electric Cooperative, Southern Minnesota Municipal Power Agency, Superior Water, Light & Power Company, Sunflower Electric Power Corporation, Wabash Valley Power Association, Inc., Wolverine Power Supply Cooperative.
|  | Xcel Energy Services, Inc. on behalf of: Northern States Power Company (Minnesota), Northern States Power Company (Wisconsin).
|  | Allegheny Electric Cooperative, Inc.
|  | Allegheny Power, American Electric Power Service Corporation on behalf of: Appalachian Power Company, Columbus Southern Power Company, Indian Michigan Power Company, Kentucky Power Company, Kingsport Power Company, Ohio Power Company, Wheeling Power Company.
|  | Atlantic City Electric Company, Baltimore Gas & Electric Company, Dayton Power and Light Company, Delmarva Power & Light Company, Dominion Virginia Power Company.
|  | Exelon Corporation on behalf of: Commonwealth Edison Company, Commonwealth Edison Company of Indiana, Inc.
|  | Jersey Central Power & Light Company, Metropolitan Edison Company, Old Dominion Electric Cooperative, PECO Energy Company, Pennsylvania Electric Company, Public Service Electric & Gas Company, PPL Electric Utilities Corporation, Potomac Electric Power Company, Rockland Electric Company and UGI Utilities, Inc.
| EL04-135-015 | Midwest Independent Transmission System Operator, Inc., PJM Interconnection, L.L.C.
|  | Alliant Energy Corporate Services, Inc. on behalf of: Interstate Power and Light Company.
|  | Ameren Services Company on behalf of: Union Electric Company and Central Illinois Public Service Company, Central Illinois Light Company.
|  | Aquila, Inc. (formerly UtiliCorp United, Inc.) Cinergy Services, Inc., Cincinnati Gas & Electric Company PSI Energy, Inc. Union Light Heat & Power Company, City Water, Light & Power Company, (Springfield, IL), Dairyland Power Cooperative.
|  | FirstEnergy Corporation on behalf of: American Transmission Systems, Inc.
|  | Great River Energy, GridAmerica LLC, Illinois Power Company, Indiana Municipal Power Agency, Indianapolis Power & Light Company, International Transmission Company, Hoosier Energy Rural Electric Cooperative, Lincoln Electric (Neb.) System.
|  | LG&E Energy Corporation on behalf of: Kentucky Utilities Company, Louisville Gas & Electric Company.
|  | Michigan Electric Transmission Company, LLC, Michigan Public Power Agency, Minnesota Power, Inc., MontanaDakota Utilities Company, Northern Indian Public Service Company, Northwestern Wisconsin Electric Company, Otter Tail Power Company, Southern Illinois Power Cooperative, Southern Indiana Gas & Electric Cooperative, Southern Minnesota Municipal Power Agency, Superior Water, Light & Power Company, Sunflower Electric Power Corporation, Wabash Valley Power Association, Inc., Wolverine Power Supply Cooperative.
|  | Xcel Energy Services, Inc. on behalf of: Northern States Power Company (Minnesota), Northern States Power Company (Wisconsin).
|  | Allegheny Electric Cooperative, Inc.
|  | Allegheny Power, American Electric Power Service Corporation on behalf of: Appalachian Power Company, Columbus Southern Power Company, Indiana Michigan Power Company, Kentucky Power Company, Kingsport Power Company, Ohio Power Company, Wheeling Power Company.
|  | Atlantic City Electric Company, Baltimore Gas & Electric Company, Dayton Power and Light Company, Delmarva Power & Light Company, Dominion Virginia Power Company.
|  | Exelon Corporation on behalf of: Commonwealth Edison Company, Commonwealth Edison Company of Indiana, Inc.
|  | Jersey Central Power & Light Company, Metropolitan Edison Company, Old Dominion Electric Cooperative, PECO Energy Company, Pennsylvania Electric Company, Public Service Electric & Gas Company, PPL Electric Utilities Corporation, Potomac Electric Power Company, Rockland Electric Company and UGI Utilities, Inc.
| EL03-212-023 | Ameren Services Company on behalf of: Union Electric Company, Central Illinois Public Service Company.
|  | American Electric Power Service Corporation on behalf of: Appalachian Power Company, Columbus Southern Power Company, Indiana Michigan Power Company, Kentucky Power Company, Kingsport Power Company, Ohio Power Company, Wheeling Power Company, Dayton Power and Light Company.
|  | Exelon Corporation on behalf of: Commonwealth Edison Company, Commonwealth Edison Company of Indiana, Inc.
|  | FirstEnergy Corporation on behalf of: American Transmission Systems, Inc.
|  | Illinois Power Company and Northern Indiana Public Service Company
| EL03-212-029 | Midwest Independent Transmission System Operator, Inc., PJM Interconnection, L.L.C.
|  | Alliant Energy Corporate Services, Inc. on behalf of: Interstate Power and Light Company.
|  | Ameren Services Company on behalf of: Union Electric Company and Central Illinois Public Service Company, Central Illinois Light Company.
|  | Aquila, Inc. (formerly UtiliCorp United, Inc.), Cinergy Services, Inc., Cincinnati Gas & Electric Company, PSI Energy, Inc. Union Light Heat & Power Company, City Water, Light & Power (Springfield, IL), Dairyland Power Cooperative.
|  | FirstEnergy Corporation on behalf of: American Transmission Systems, Inc.
|  | Great River Energy, GridAmerica LLC, Illinois Power Company, Indiana Municipal Power Agency, Indianapolis Power & Light Company, International Transmission Company, Hoosier Energy Rural Electric Cooperative, Lincoln Electric (Neb.) System
|  | LG&E Energy Corporation on behalf of: Kentucky Utilities Company, Louisville Gas & Electric Company.
|  | Michigan Electric Transmission Company, LLC, Michigan Public Power Agency, Minnesota Power, Inc., MontanaDakota Utilities Company, Northern Indiana Public Service Company, Northwestern Wisconsin Electric Company, Otter Tail Power Company, Southern Illinois Power Cooperative, Southern Indiana Gas & Electric Cooperative, Southern Minnesota Municipal Power Agency, Superior Water, Light & Power Company, Sunflower Electric Power Corporation, Wabash Valley Power Association, Inc., Wolverine Power Supply Cooperative.
|  | Xcel Energy Services, Inc. on behalf of: Northern States Power Company, (Minnesota) Northern States Power Company (Wisconsin).
|  | Allegheny Electric Cooperative, Inc.
|  | Allegheny Power, American Electric Power Service Corporation on behalf of: Appalachian Power Company, Columbus Southern Power Company, Indiana Michigan Power Company, Kentucky Power Company, Kingsport Power Company, Ohio Power Company, Wheeling Power Company.
|  | Atlantic City Electric Company, Baltimore Gas & Electric Company, Dayton Power and Light Company, Delmarva Power & Light Company, Dominion Virginia Power Company.
|  | Exelon Corporation on behalf of: Commonwealth Edison Company, Commonwealth Edison Company of Indiana, Inc.
|  | Jersey Central Power & Light Company, Metropolitan Edison Company, Old Dominion Electric Cooperative, PECO Energy Company, Pennsylvania Electric Company, Public Service Electric & Gas Company, PPL Electric Utilities Corporation, Potomac Electric Power Company, Rockland Electric Company and UGI Utilities, Inc.
| EL02-111-021 | Midwest Independent Transmission System Operator, Inc., PJM Interconnection, L.L.C.
|  | Alliant Energy Corporate Services, Inc. on behalf of: Interstate Power and Light Company.
|  | Ameren Services Company on behalf of: Union Electric Company and Central Illinois Public Service Company, Central Illinois Light Company.
|  | Aquila, Inc. (formerly UtiliCorp United, Inc.), Cinergy Services, Inc., Cincinnati Gas & Electric Company PSI Energy, Inc. Union Light Heat & Power Company, City Water, Light & Power (Springfield, IL), Dairyland Power Cooperative.
|  | FirstEnergy Corporation on behalf of: American Transmission Systems, Inc.
|  | Great River Energy, GridAmerica LLC, Illinois Power Company, Indiana Muncipal Power Agency, Indianapolis Municipal Power Agency, Indianapolis Power & Light Company, International Transmision Company, Hoosier Energy Rural Electric Cooperative, Lincoln Electric (Neb.) System.
|  | LG&E Energy Corporation on behalf of: Kentucky Utilities Company, Louisville Gas & Electric Company, Louisville Gas & Electric Company.
|  | Michigan Electric Transmission Company, LLC, Michigan Public Power Agency, Minnesota Power, Inc., MontanaDakota Utilities Company, Northern Indiana Public Service Company, Northwestern Wisconsin Electric Company, Otter Tail Power Company, Southern Illinois Power Cooperative, Southern Indiana Gas & Electric Cooperative, Southern Minnesota Municipal Power Agency, Superior Water, Light & Power Company, Sunflower Electric Power Corporation, Wabash Valley Power Association, Inc., Wolverine Power Supply Cooperative.
|  | Xcel Energy Services, Inc. on behalf of: Northern States Power Company (Minnesota), Northern States Power Company (Wisconsin).
|  | Allegheny Electric Cooperative, Inc.
|  | Allegheny Power, American Electric Power Service Corporation on behalf of: Appalachian Power Company, Columbus southern Power Company, Indiana Michigan Power Company, Kentucky Power Company, Kingsport Power Company, Ohio Power Company, Wheeling Power Company.
|  | Atlantic City electric Company, Baltimore Gas & Electric Company, Dayton Power and Light Company, Delmarva Power & Light Company, Dominion Virginia Power Company.
|  | Exelon Corporation on behalf of: Commonwealth Edison Company, Commonwealth Edison Company of Indiana, Inc.
|  | Jersey Central Power & Light Company, Metropolitan Edison Company, Old Dominion Electric Cooperative, PECO Energy Company, Pennsylvania Electric Company, Public Service Electric & Gas Company, PPL Electric Utilities Corporation, Potomac Electric Power Company, Rockland Electric Company and UGI Utilities, Inc.
| EL03-212-018 | Ameren Services Company, on behalf of: Union Electric Company, Central Illinois Public Service Company.
|  | American Electric Power Service Corporation on behalf of: Appalachian Power Company, Columbus Southern Power Company, Indiana Michigan Power Company, Kentucky Power Company, Kingsport Power Company, Ohio Power Company, Wheeling Power Company.
|  | Dayton Power and Light Company.
|  | Exelon Corporation on behalf of: Commonwealth Edison Company, Commonwealth Edison Company of Indiana, Inc.
|  | FirstEnergy Corporation on behalf of: American Transmission Systems, Inc.
|  | Illinois Power Company and Northern Indiana Public Service Company
| EL04-135-004 | Midwest Independent System Operator, Inc., PJM Interconnection, L.L.C.
|  | Alliant Energy Corporate services, Inc. on behalf of: Interstate Power and Light Company.
|  | Ameren Services Company on behalf of: Union Electric Company and Central Illinois Public Service Company, Central Illinois Light Company.
|  | Aquila, Inc. (formerly UtiliCorp United, Inc.), Cinergy services, Inc., Cincinnati Gas & Electric company PSSI Energy, Inc. Union Light Heat & Power Company, City Water, Light & Power (Springfield, IL), Dairyland Power Cooperative.
|  | FirstEnergy Corporation on behalf of: American Transmission Systems, Inc.
|  | Great River Energy, GridAmerica LLC, Illinois Power Company, Indiana Municipal Power Agency, Indianapolis Power & Light Company, International Transmission Company, Hoosier Energy Rural Electric Cooperative, Lincoln Electric (Neb.) System.
|  | LG&E Energy Corporation on behalf of: Kentucky Utilities Company, Louisville Gas & Electric Company.
|  | Michigan Electric Transmission Company LLC, Michigan Public Power Agency, Minnesota Power, Inc., MontanaDakota Utilities company, Northern Indiana Public Service Company, Northwestern Wisconsin Electric Company, Otter Tail Power Company, Southern Illinois Power Cooperative, Southern Indiana Gas & Electric Cooperative, Southern Minnesota Municipal Power Agency, Superior Water, Light & Power Company, Sunflower Electric Power Corporation, Wabash Valley Power Association, Inc., Wolverine Power Supply Cooperative.
|  | Xcel Energy Services, Inc. on behalf of: Northern States Power Company (Minnesota), Northern States Power Company (Wisconsin).
|  | Allegheny Electric Cooperative, Inc. Allegheny Power, American Electric Power Service Corporation on behalf of: Appalachian Power Company, Columbus Southern Power Company, Indiana Michigan Power Company, Kentucky Power Company, Kingsport Power Company, Wheeling Power Company.
|  | Atlantic City Electric Company, Baltimore Gas & Electric Company, Dayton Power and Light Company, Delmarva Power & Light Company, Dominion Virginia Power Company, Delmarva Power & Light Company, Dominion Virginia Power Company.
|  | Exelon Corporation on behalf of: Commonwealth Edison Company, Commonwealth Edison Company of Indiana, Inc.
|  | Jersey Central Power & Light Company, Metropolitan Edison Company, Old Dominion Electric Cooperative, PECO Energy Company, Pennsylvania Electric Company, Public Service Electric & Gas Company, PPL Electric Utilities Corporation, Potomac Electric Power Company, Rockland Electric Company and UGI Utilities, Inc.
| ER05-6-002 | Midwest Independent Transmission System Operator, Inc.
| EL02-111-022 | Midwest Independent Transmission System Operator, Inc., PJM Interconnection, L.L.C. Union Electric Company, Central Illinois Public Service Company, Appalachian Power Company, Columbus Southern Power Company, Indiana Michigan Power Company, Kentucky Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Energy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc. and its subsidiary Superior Water, Light & Power Company, MontanaDakota Utilities, Northwestern Wisconsin Electric Company, Otter Tail Power Company, Southern Illinois Power Cooperative, Southern Indiana Gas & Electric Cooperative, Southern Minnesota Municipal Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG+E Electric Services, Southwestern Public Service Company, Empire District Electric Company, Western Resources and Kansas Gas & Electric Co.
| EL03-212-019 | Ameren Services Company on behalf of: Union Electric Company, Central Illinois Public Service Company.
|  | American Electric Power Service Corporation on behalf of: Appalachian Power Company, Columbus Southern Power Company, Indiana Michigan Power Company, Kentucky Power Company, Kingsport Power Company, Ohio Power Company, Wheeling Power Company.
|  | Dayton Power and Light Company.
|  | Exelon Corporation on behalf of: Commonwealth Edison Company, commonwealth Edison company of Indiana, Inc.
|  | FirstEnergy Corporation on behalf of: American Transmission Systems, Inc.
|  | Illinois Power Company and Northern Indiana Public Service Company Cooperative.
| EL04-135-005 | Midwest Independent Transmission System Operator, Inc., PJM Interconnection, L.L.C.
|  | Alliant Energy Corporate Services, Inc. on behalf of: Interstate Power and Light Company.
|  | American Services Company on behalf of: Union Electric Company and Central Illinois Public Service Company, Central Illinois Light Company.
|  | Aquila, Inc. (formerly UtiliCorp United, Inc.), Cinergy Services, Inc., Cincinnati Gas & Electric Company, PSI Energy, Inc. Union Light Heat & Power Company, City Water, Light & Power (Springfield, IL), Dairyland Power Cooperative.
|  | FirstEnergy Corporation on behalf of: American Transmission Systems, Inc.
|  | Great River Energy, GridAmerica LLC, Illinois Power Company, Indiana Municipal Power Agency, Indianapolis Power & Light Company, International Transmission Company, Hoosier Energy Rural Electric Cooperative, Lincoln Electric (Neb.) System.,
|  | LG&E Energy Corporation on behalf of: Kentucky Utilities Company, Louisville Gas & Electric Company.
|  | Michigan Electric Transmission Company, LLC, Michigan Public Power Agency, Minnesota Power, Inc., MontanaDakota Utilities Company, Northern Indiana Public Service Company, Northwestern Wisconsin Electric Company, Otter Tail Power Company, Southern Illinois Power Cooperative, Southern Indiana Gas & Electric Cooperative, Southern Minnesota Municipal Power Agency, Superior Water, Light & Power Company, Sunflower Electric Power Corporation, Wabash Valley Power Association, Inc., Wolverine Power Supply Cooperative.
|  | Xcel Energy Services, Inc. on behalf of: Northern States Power Company (Minnesota), Northern States Power Company (Wisconsin).
|  | Allegheny Electric Cooperative, Inc.
|  | Allegheny Power, American Electric Power Service Corporation on behalf of: Appalachian Power Company, Columbus Southern Power Company, Indiana Michigan Power Company, Kentucky Power Company, Kingsport Power Company, Ohio Power Company, Wheeling Power Company.
|  | Atlantic City Electric Company, Baltimore Gas & Electric Company, Dayton Power and Light Company, Delmarva Power & Light Company, Dominion Virginia Power Company.
|  | Exelon Corporation on behalf of: Commonwealth Edison Company, Commonwealth Edison Company of Indiana, Inc.
|  | Jersey Central Power & Light Company, Metropolitan Edison Company, Old Dominion Electric Cooperative, PECO Energy Company, Pennsylvania Electric Company, Public Service Electric & Gas Company, PPL Electric Utilities Corporation, Potomac Electric Power Company, Rockland Electric Company and UGI Utilities, Inc.
| ER05-6-003 | Midwest Independent Transmission System Operator, Inc.
| EL02-111-020 | Midwest Independent Transmission System Operator, Inc., PJM Interconnection, L.L.C., Union Electric Company, Central Illinois Public Service Company, Appalachian Power Company, Columbus Southern Power Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Interstate Power Company, Aquila, Inc. (formerly UtiliCorp United, Inc.), PSI Energy, Inc., Union Light Heat & Power Company, Dairyland Power Cooperative, Great River Energy, Hoosier Energy Rural Electric Cooperative, Indiana Municipal Power Agency, Indianapolis Power & Light Company, Louisville Gas & Electric Company, Kentucky Utilities Company, Lincoln Electric (Neb.) System, Minnesota Power, Inc. and its subsidiary Superior Water, Light & Power Company, MontanaDakota Utilities, Northwestern Wisconsin Electric Company, Otter Tail Power Company, Southern Illinois Power Cooperative, Southern Indiana Gas & Electric Cooperative, Southern Minnesota Municipal Power Agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power Company, Cincinnati Gas & Electric Company, Missouri Public Service, WestPlains Energy, Cleco Corporation, Kansas Power & Light Company, OG+E Electric Services, Southwestern Public Service Company, Empire District Electric Company, Western Resources and Kansas Gas & Electric Co.
| EL03-212-017 | Ameren Services Company on behalf of: Union Electric Company, Central Illinois Public Service Company.
|  | American Electric Power Service Corporation on behalf of: Appalachian Power Company, Columbus Southern Power Company, Indiana Michigan Power Company, Kentucky Power Company, Kingsport Power Company, Ohio Power Company, Wheeling Power Company.
|  | Dayton Power and Light Company.
|  | Exelon Corporation on behalf of: Commonwealth Edison Company, Commonwealth Edison Company of Indiana, Inc.
|  | FirstEnergy Corporation on behalf of: American Transmission Systems, Inc.
|  | Illinois Power Company and Northern Indiana Public Service Company
| EL04-135-003 | Midwest Independent Transmission System Operator, Inc., PJM Interconnection, L.L.C.
|  | Alliant Energy Corporate Services, Inc. on behalf of: Interstate Power and Light Company.
|  | Ameren Services Company on behalf of: Union Electric Company and Central Illinois Public Service Company Central Illinois Light Company.
|  | Aquila, Inc. (formerly UtiliCorp United, Inc.) Cinergy Services, Inc., Cincinnati Gas & Electric Company PSI Energy, Inc. Union Light Heat & Power Company, City Water, Light & Power (Springfield, IL), Dairyland Power Cooperative.
|  | FirstEnergy Corporation on behalf of: American Transmission Systems, Inc.
|  | Great River Energy, GridAmerica LLC, Illinois Power Company, Indiana Municipal Power Agency, Indianapolis Power & Light Company, International Transmission Company, Hoosier Energy Rural Electric Cooperative, Lincoln Electric (Neb.) System.
|  | LG&E Energy Corporation on behalf of: Kentucky Utilities Company, Louisville Gas & Electric Company.
|  | Michigan Electric Transmission Company, LLC, Michigan Public Power Agency, Minnesota Power, Inc., MontanaDakota Utilities Company, Northern Indiana Public Service Company, Northwestern Wisconsin Electric Company, Otter Tail Power Company, Southern Illinois Power Cooperative, Southern Indiana Gas & Electric Cooperative, Southern Minnesota Municipal Power Agency, Superior Water, Light & Power Company, Sunflower Electric Power Corporation, Wabash Valley Power Association, Inc., Wolverine Power Supply Cooperative.
|  | Xcel Energy Services, Inc. on behalf of: Northern States Power Company (Minnesota), Northern States Power Company (Wisconsin).
|  | Allegheny Electric Cooperative, Inc.
|  | Allegheny Power, American Electric Power Service Corporation on behalf of: Appalachian Power Company, Columbus Southern Power Company, Indiana Michigan Power Company, Kentucky Power Company, Kingsport Power Company, Ohio Power Company, Wheeling Power Company.
|  | Atlantic City Electric Company, Baltimore Gas & Electric Company, Dayton Power and Light Company, Delmarva Power & Light Company, Dominion Virginia Power Company.
|  | Exelon Corporation on behalf of: Commonwealth Edison Company, Commonwealth Edison Company of Indiana, Inc.
|  | Jersey Central Power & Light Company, Metropolitan Edison Company, Old Dominion Electric Cooperative, PECO Energy Company, Pennsylvania Electric Company, Public Service Electric & Gas Company, PPL Electric Utilities Corporation, Potomac Electric Power Company, Rockland Electric Company and UGI Utilities, Inc.
| EL02-111-033 | Midwest Independent Company, Transmission System Operator, Inc., PJM Interconnection, L.L.C., Union Electric Company, Central Illinois Public Service Company, Appalachian Power Company, Columbus Southern Company, Indiana Michigan Power Company, Kentucky Power Company, Kingsport Power Company, Ohio Power Company, Wheeling Power Company, Michigan Electric Transmission Company, Dayton Power and Light Company, Commonwealth Edison Company, Commonwealth Edison Company of Indiana, Inc., American Transmission Systems, Inc., Illinois Power Company, Northern Indiana Public Service Company, Virginia Electric and Power Company, IES Utilities, Inc., Old Dominion Electric Interstate Power Company, Aquila, Inc. Company of (formerly UtiliCorp Colorado, United, Inc.), PSI Energy, Inc., Union Light Heat & Power Company, Dairyland Power Cooperative, Great River Energy, Hoosier Rural Electric Cooperative, Indiana Municipal Power Agency, Indianapolis Power & Light Company, Louisville Gas & Electric Company, Kentucky Utilities Company, Lincoln Electric (Neb.) System, Minnesota Power, Inc. and its subsidiary Superior Water, Light & Power Company, MontanaDakota Utilities, Northwestern Wisconsin Electric Company, Otter Tail Power Company, Southern Illinois Power Cooperative, Southern Indiana Gas & Electric Cooperative, Southern Minnesota Municipal Power agency, Sunflower Electric Power Corporation, Wabash Valley Power Association, Inc., Wolverine Power Supply Cooperative, International Transmission Company, Alliant Energy West, Xcel Energy Services, Inc., MidAmerican Energy Company, Corn Belt Power Corporation, Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, UGI Utilities, Inc., Allegheny Power, Carolina Power & Light Company, Central Power & Light Company, Conectiv, Detroit Edison Company, Duke Power Company, GPU Energy, Northeast Utilities Service Company, Old Dominion Electric Cooperative, Public Service Company of Colorado, Public Service Electric & Gas Company, Public Service Company of Oklahoma, Rockland Electric Company, South Carolina Electric & Gas Company, Southwestern Electric Power & Gas Company, Cincinnati Gas & Electric Company, Missouri Public Service, WestPlains Energy, Cleco Corporation, Kansas Power & Light Company, OG+E Electric Services, Southwestern Public Service Company, Empire District Electric Company, Western Resources and Kansas Gas & Electric Co.
E-22 | OMITTED.
E-23 | ER02-267-002 | Intercom Energy, Inc.
E-24 | EL00-95-091 | San Diego Gas & Electric Company v. Sellers of Energy and Ancillary Services Into Markets Operated by the California Independent System Operator Corporation and the California Power Exchange Corporation.
| EL00-98-078 | Investigation of Practices of the California Independent System Operator Corporation and the California Power Exchange Corporation
| EL00-95-119 | San Diego Gas & Electric Company v. Sellers of Energy and Ancillary Services Into Markets Operated by the California Independent System Operator Corporation and the California Power Exchange Corporation
| EL00-98-106 | Investigation of Practices of the California Independent System Operator Corporation and the California Power Exchange Corporation
E-25 | OMITTED.
E-26 | ER01-1870-002 | PPL Southwest Generation Holdings, LLC.
| ER01-1870-003 | PPL Southwest Generation Holdings, LLC.
| ER01-1870-005 | PPL Southwest Generation Holdings, LLC.
E-27 | ER00-2181-002 | Hess Energy Inc.
| ER97-2153-014 | Amerada Hess Corporation
E-28 | OMITTED.
E-29 | EL05-17-000 | KeySpanRavenswood, LLC v. New York Independent System Operator, Inc.
E-30 | EL05-42-000 | Kiowa Power Partners, LLC v. Public Service Company of Oklahoma and American Electric Power Service Corporation
| EL05-43-000 | Tenaska Gateway Partners, Ltd. v. Southwestern Electric Power Company and American Electric Power Service Corporation.
E-31 | OMITTED.
E-32 | OMITTED.
E-33 | EL92-33-009 | Barton Village, Inc., Village of Enosburg Falls Water & Light Department, Village of Orleans and Village of Swanton Village, Vermont v. Citizens Utilities Company.
E-34 | OMITTED.
E-35 | EL03-37-001 | Town of Norwood, Massachusetts v. National Grid USA, New England Electric System, Massachusetts Electric Company and Narragansett Electric Light Company.
E-36 | ER04-652-002 | First Energy Solutions Corporation.
| ER04-652-000 | First Energy Solutions Corporation.
| ER04-652-001 | First Energy Solutions Corporation .
E-37 | ER04-81-000 | Allegheny Energy Supply Company, LLC and Monongahela Power Company.
E-38 | OMITTED.
E-39 | OMITTED.
E-40 | RT04-1-005 | Southwest Power Pool, Inc.
| ER04-48-005 | Southwest Power Pool, Inc.
E-41 | ER03-851-002 Entergy Services, Inc.
| ER03-851-001 | Entergy Services, Inc.
E-42 | OMITTED.
E-43 | OMITTED.
E-44 | OMITTED.
E-45 | OMITTED.
E-46 | OMITTED.
E-47 | EL04-122-001 | PPL University Park, LLC v. Commonwealth Edison Company.
E-48 | RT04-1-003 | Southwest Power Pool, Inc.
| ER04-48-003 | Southwest Power Pool, Inc. Southwest Power Pool, Inc.
E-49 | ER98-997-004 | California Independent System Operator Corporation.
| ER98-1309-003 | California Independent System Operator Corporation.
| ER02-2297-003 | California Independent System Operator Corporation.
| ER02-2298-003 | California Independent System Operator Corporation.
E-50 | EL00-95-121 | San Diego Gas & Electric Company v. Sellers of Energy and Ancillary Services Into Markets Operated by the California Independent System Operator Corporation and the California Power Exchange Corporation.
| EL00-98-108 | Investigation of Practices of the California Independent System Operator Corporation and the California Power Exchange Corporation.
E-51 | OMITTED.
E-52 | ER05-341-000 | CMS Generation Michigan Power, L.L.C.
E-53 | ER04-457-001 DPJM Interconnection L.L.C.
| ER04-457-002 DPJM Interconnection L.L.C.
| EL05-60-000 | PJM Interconnection L.L.C.
E-54 | ER05-71-000 | Sirius Investment Management, Inc.
| ER05-71-001 | Sirius Investment Management, Inc.
| ER05-71-002 | Sirius Investment Management, Inc.
E-55 | ER02-2397-002 | Great Lakes Hydro America, LLC.
E-56 | ER01-3034-005 | Duke Energy Oakland, LLC.
E-57 | OMITTED |
E-58 | ER05-381-000 | California Independent System Operator Corporation.
| EL05-18-000 | City of Pasadena, California.
E-59 | ER05-363-000 | El Segundo Power, LLC.
E-60 | ER05-373-000 | Reliant Energy Etiwanda, Inc.
E-61 | ER03-775-002 | FortisOntario, Inc.
| ER03-775-003 | FortisOntario, Inc.
| ER00-136-001 | FortisUS Energy Corporation.
| ER00-136-002 | FortisUS Energy Corporation.
E-62 | ER04-308-000 | Cabrillo Power I LLC and Cabrillo Power II LLC.
MISCELLANEOUS AGENDA
M-1 | OMITTED.
M-2 | RM04-9-000 | Electronic Notification of Commission Issuances.
MARKETS, TARIFFS, AND RATES—GAS
G-1 | RP03-563-001 | Northern Border Pipeline Company.
| RP03-563-002 | Northern Border Pipeline Company.
| RP03-563-003 | Northern Border Pipeline Company.
G-2 | CP01-411-005 | Calypso U.S. Pipeline, LLC.
| CP01-411-006 | Calypso U.S. Pipeline, LLC.
| RP04-623-000 | Calypso U.S. Pipeline, LLC.
G-3 | CP99-579-003 | Southern LNG Inc.
G-4 | RP05-15-001 | El Paso Natural Gas Company.
G-5 | RP04-574-001 | Florida Gas Transmission Company.
| RP04-574-000 | Florida Gas Transmission Company.
G-6 | PR04-9-001 | Bay Gas Storage Company, Ltd.
| PR04-9-000 | Bay Gas Storage Company, Ltd.
G-7 | RP04-454-001 | Panhandle Eastern Pipe Line Company, LP.
G-8 | RP02-99-009 | Shell Offshore Inc. v. Transcontinental Gas Pipe Line Corporation, Williams Gas Processing—Gulf Coast Company, L.P., and Williams Field Services.
G-9 | RP04-155-000 | Northern Natural Gas Company.
| RP04-155-004 | Northern Natural Gas Company.
| RP03-398-011 | Northern Natural Gas Company.
| RP03-398-000 | Northern Natural Gas Company.
| RP04-280-000 | Northern Natural Gas Company.
| RP04-94-000 | Northern Natural Gas Company.
G-10 | OR05-2-000 | State of Alaska v. BP Pipelines (Alaska) Inc., ExxonMobil Pipeline Company, ConocoPhillips Transportation Alaska, Inc., Unocal Pipeline Company and Koch Alaska Pipeline Company.
| OR05-3-000 | Anadarko Petroleum Corporation v. TAPS Carriers.
| IS05-72-000 | ExxonMobil Pipeline Company.
| IS05-80-000 | ConocoPhillips Transportation Alaska, Inc.
| IS05-82-000 | BP Pipelines (Alaska) Inc.
| IS05-96-000 | Koch Alaska Pipeline Company.
| IS05-107-000 | Unocal Pipeline Company.
G-11 | PR97-1-003 | Consumers Power Company.
G-12 | TS04-53-002 | Destin Pipeline Company, L.L.C.
| TS05-2-001 | Energy West Development.
| TS04-280-001 | Jupiter Energy Corporation.
| TS04-258-000 | Nornew Energy Supply, Inc.
| TS04-7-003 | ONEOK, Inc., and OkTex Pipeline Company.
| TS04-7-002 | ONEOK, Inc., and OkTex Pipeline Company.
G-13 | RP04-249-004 | AES Ocean Express LLC.
ENERGY PROJECTS—HYDRO
H-1 | P-460-029 | City of Tacoma, Washington.
H-2 | P-2816-032 | Vermont Electric Cooperative.
H-3 | P-2493-016 | Puget Sound Energy, Inc.
H-4 | P-1864-019 | Upper Peninsula Power Company.
H-5 | P-2149-119 | Public Utility District No. 1 of Douglas County, Washington.
ENERGY PROJECTS—CERTIFICATES
C-1 | RM05-1-000 | Regulations Governing the Conduct of Open Seasons for Alaska Natural Gas Transmission Projects.
C-2 | CP04-373-000 | Texas Gas Transmission, LLC.
C-3 | CP04-64-001 | Trunkline Gas Company, LLC.
C-4 | CP04-396-000 | Transcontinental Gas Pipe Line Corporation.

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

[FR Doc. 05-2479 Filed 2-3-05; 4:26 pm]

BILLING CODE 6717-01-P